DEPARTMENT OF THE INTERIOR

Fish and Wildlife Service

Notice of Availability of the Final Recovery Plan for the California Red-Legged Frog

AGENCY: Fish and Wildlife Service, Interior.

ACTION: Notice of document availability.

SUMMARY: We, the U.S. Fish and Wildlife Service (Service) announce the availability of a final recovery plan for the California red-legged frog (Rana aurora draytonii). The population of this subspecies of red-legged frog has been extirpated from 70 percent of its former range and is now found in coastal drainages of central California from Marin County, California, south to northern Baja California, Mexico. Actions needed for recovery include: (1) Protection of known populations and reestablishment of populations; (2) protection of suitable habitat, corridors, and core areas; (3) habitat management; (4) development of land use guidelines; (5) research; (6) surveying and monitoring; and (7) public participation, outreach, and education.

ADDRESSES: Copies of this recovery plan are available by request from the Sacramento Fish and Wildlife Office, 2800 Cottage Way, W-2605, Sacramento, California, 916/414-6600. Recovery plans may also be obtained from: Fish and Wildlife Reference Service, 5430 Grosvenor Lane, Suite 110, Bethesda, Maryland 20814, 301/429-6403 or 1-800-582-3421. The fee for the plan varies depending on the number of pages of the plan. This recovery plan will be made available on the World Wide Web at http://www.r1.fws.gov/ecoservices/endangered/recovery/default.htm.

FOR FURTHER INFORMATION CONTACT: Ina Pisani, Fish and Wildlife Biologist, at the above Sacramento address.

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species, establish criteria for downlisting or delisting listed species, and estimate time and cost for implementing the recovery measures needed.

The Endangered Species Act of 1973, as amended in 1988 (Act) (16 U.S.C. 1531 et seq.), requires the development of recovery plans for listed species unless such a plan would not promote the conservation of a particular species. Section 4(f) of the Act requires that public notice and an opportunity for public review and comment be provided during recovery plan development. Information presented during the public comment period has been considered in the preparation of this final recovery plan, and is summarized in the appendix to the recovery plan. We will forward substantive comments regarding recovery plan implementation to appropriate Federal or other entities so that they can take these comments into account during the course of implementing recovery actions.

The California red-legged frog (Rana aurora draytonii) occurs from sea level to elevations of about 1,500 meters (5,000 feet) in its range. It has been extirpated from 70 percent of its former range. The California red-legged frog requires a variety of habitat elements with aquatic breeding areas embedded within a matrix of riparian and upland dispersal habitats. Breeding sites of the California red-legged frog are in aquatic habitats including pools and backwaters within streams and creeks, ponds, marshes, sag ponds, dune ponds, and lagoons. California red-legged frogs frequently breed in artificial impoundments such as stock ponds. Potential threats to the species include elimination or degradation of habitat from land development and land use activities, and habitat invasions by non-native aquatic species.

The objective of this recovery plan is to delist the California red-legged frog through implementation of a variety of recovery measures including: (1) Protection of known populations and reestablishment of populations; (2) protection of suitable habitat, corridors, and core areas; (3) habitat management; (4) development of land use guidelines; (5) research; (6) surveying and monitoring; and (7) public participation, outreach, and education.

Authority

The authority for this action is section 4(f) of the Endangered Species Act, 16 U.S.C. 1533(f).

Dated: August 19, 2002.
Steve Thompson,
Manager, California/Nevada Operations Office, Region 1 , Fish and Wildlife Service.

[FR Doc. 02-21614 Filed 9-11-02; 8:45 am]

BILLING CODE 4310-55-P